DEPARTMENT OF HEALTH AND HUMAN SERVICES

National Institutes of Health

National Institute on Alcohol Abuse and Alcoholism; Amended Notice of Meeting

Notice is hereby given of a change in the meeting of the National Advisory Council on Alcohol Abuse and Alcoholism, February 08, 2018, 09:00 a.m. to February 08, 2018, 03:15 p.m., National Institutes of Health, National Institute on Alcohol Abuse and Alcoholism, 5635 Fishers Lane, Terrace Conference Rooms, Bethesda, MD 20892 which was published in the Federal Register on December 15, 2017, 82 FR 59629.

The meeting notice is amended to change the ending time of the closed session to 10:15 a.m. and the start time of the open session to 10:15 a.m. on February 08, 2018. The meeting is partially closed to the public.

Dated: January 9, 2018.
Melanie J. Pantoja,
Program Analyst, Office of Federal Advisory Committee Policy.

[FR Doc. 2018-00864 Filed 1-18-18; 8:45 am]

BILLING CODE 4140-01-P